DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 9, 2007.

Interested persons are invited to submit written comments regarding the subject matter of the investigations to the Director, Division of Trade Adjustment Assistance, at the address shown below, not later than April 9, 2007.

The petitions filed in this case are available for inspection at the Office of the Director, Division of Trade Adjustment Assistance, Employment and Training Administration, U.S. Department of Labor, Room C-5311, 200 Constitution Avenue, NW., Washington, DC 20210.

Signed at Washington, DC, this 20th day of March 2007.
Linda G. Poole,
Certifying Officer, Division of Trade Adjustment Assistance.

Appendix—TAAPpetitions Instituted Between 3/12/07 and 3/16/07
TA-W | Subject firm (petitioners) | Location | Date of institution | Date of petition
61089 | Commercial Vehicle Group a/k/a Trim Systems (Comp) | Vancouver, WA | 03/12/07 | 03/09/07
61090 | Easton Sports Inc (State) | Van Nuys, CA | 03/12/07 | 03/09/07
61091 | Esselte Corporation (Comp) | Kankakee, IL | 03/12/07 | 03/09/07
61092 | Hillerich and Bradsby Company (Wkrs) | Loomis, CA | 03/12/07 | 03/08/07
61093 | Collins and Aikman (UAW) | Morristown, IN | 03/12/07 | 03/01/07
61094 | Pine River Plastics (Comp) | St. Clair, MI | 03/12/07 | 03/09/07
61095 | Freightliner PMP (Wkrs) | Gastonia, NC | 03/12/07 | 03/07/07
61096 | Portac, Inc (UNION) | Tacoma, WA | 03/12/07 | 03/06/07
61097 | Fleetwood Travel Trailers (Wkrs) | Longview, TX | 03/12/07 | 03/07/07
61098 | Indera Mills Company (Comp) | Yadkinville, NC | 03/12/07 | 03/12/07
61099 | Wright's Hosiery (Comp) | Fort Payne, AL | 03/12/07 | 03/12/07
61100 | Performance Sports Apparel (Wkrs) | Reading, PA | 03/13/07 | 03/12/07
61101 | Ameridrives International (UNION) | Erie, PA | 03/13/07 | 03/02/07
61102 | Springs Global (Comp) | Hartwell, GA | 03/13/07 | 03/12/07
61103 | Delbar Products Inc (IAM) | Perkasie, PA | 03/13/07 | 03/12/07
61104 | Bay State Circuits Inc. (Comp) | Millbury, MA | 03/13/07 | 03/12/07
61105 | Kidde Fenwal (Comp) | Ashland, MA | 03/13/07 | 03/12/07
61106 | Hoke Inc (Comp) | Berlin, CT | 03/13/07 | 03/07/07
61107 | Boise Cascade LLC (UNION) | Vancouver, WA | 03/13/07 | 03/12/07
61108 | Fleetwood Travel Trailers (State) | Williamsport, MD | 03/13/07 | 03/13/07
61109 | Laufen International Inc/U.S. Ceramic Tile Company (Comp) | Canton, OH | 03/14/07 | 03/14/07
61110 | DENT Manufacturing (GMP) | Northampton, PA | 03/14/07 | 03/11/07
61111 | Bodine Electric Company (Comp) | Peosta, IA | 03/15/07 | 03/14/07
61112 | Modine Manufacturing Company (Union) | Clinton, TN | 03/15/07 | 03/13/07
61113 | Jabil (Comp) | St. Petersburg, FL | 03/15/07 | 03/13/07
61114 | Vestal Manufacturing Enterprises, Inc. (Union) | Sweetwater, TN | 03/15/07 | 03/14/07
61115 | Hoke, Inc (State) | Berlin, CT | 03/15/07 | 03/14/07
61116 | Alsons Coproration (Comp) | Hillsdale, MI | 03/15/07 | 03/15/07
61117 | Hanes Brands (Wkrs) | Rockingham, NC | 03/15/07 | 02/28/07
61118 | Progressive Service Die Company (Comp) | New Kingstown, PA | 03/15/07 | 03/15/07
61119 | Northcutt Woodworks, L.P. (Comp) | Crockett, TX | 03/15/07 | 03/13/07
61120 | ConAgra Foods (Union) | King City, CA | 03/16/07 | 03/14/07
61121 | Ardel, Inc (Wkrs) | Shelby, NC | 03/16/07 | 03/15/07
61122 | Snap-on Tools (Union) | Johnson City, TN | 03/16/07 | 03/15/07
61123 | A.O. Smith Electrical Products Company (Comp) | McMinnville, TN | 03/16/07 | 03/01/07
61124 | Topflite Golf Co (The) (IBB) | Chicopee, MA | 03/16/07 | 03/14/07
61125 | Jones NY Apparel Group Inc (Wkrs) | New York, NY | 03/16/07 | 03/04/07
61126 | U.S. Axle, Inc. (Comp) | Pottstown, PA | 03/16/07 | 03/05/07
61127 | ICT (Comp) | Calvert City, KY | 03/16/07 | 03/15/07
61128 | Kvaerner Willfab (IUE) | Williamsport, PA | 03/16/07 | 03/15/07
61129 | Romar Textile Co Inc (Comp) | Wampum, PA | 03/16/07 | 03/13/07
61130 | Bauhaus USA Inc (Comp) | Iuka, MS | 03/16/07 | 03/15/07
61131 | Excel Technical Services (Wkrs) | Fishers, IN | 03/16/07 | 03/15/07

[FR Doc. E7-5852 Filed 3-29-07; 8:45 am]

BILLING CODE 4510-FN-P